FEDERAL COMMUNICATIONS COMMISSION

[Report No. 2568]

Petitions for Reconsideration of Action in Rulemaking Proceeding

August 9, 2002.

Petitions for Reconsideration have been filed in the Commission's rulemaking proceeding listed in this Public Notice and published pursuant to 47 CFR Section 1.429(e). The full text of this document is available for viewing and copying in Room CY-A257, 445 12th Street, SW., Washington, DC or may be purchased from the Commission's copy contractor, Qualex International (202) 863-2893. Oppositions to these petitions must be filed by September 3, 2002. See Section 1.4(b)(1) of the Commission's rules (47 CFR 1.4(b)(1)). Replies to an opposition must be filed within 10 days after the time for filing oppositions has expired.

Subject: In the Matter of Amendment of Parts of the Commission's Rules to Permit Operation of NGSO FSS Systems Co-Frequency With GSO and Terrestrial Systems in the KU-Band Frequency Range (ET Docket No. 98-206, RM-9147, RM-9245).

Number of Petitions Filed: 7.

Marlene H. Dortch,
Secretary.

[FR Doc. 02-20926 Filed 8-16-02; 8:45 am]

BILLING CODE 6712-01-M